ENVIRONMENTAL PROTECTION AGENCY

[ER-FRL-6637-3]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 12, 2002 (67 FR 17992).

Draft EISs

ERP No. D-COE-K32012-CA Rating EC2, San Diego Harbor Deepening (Central Navigation Channel) involving Three Components: Deepening Federal Central Navigation Channel, Disposal of the Dredged Material at the LA-5 Ocean Disposal Site and Relocation and Disposal and Abandonment of a 69 kV Electrical Site, San Diego County.

Summary: EPA expressed environmental concerns and requested additional information regarding potential connected actions, water quality, air quality, endangered species and environmental justice.

ERP No. D-COE-L32011-AK Rating EO2, Akutan Harbor Navigation Improvements Project, Construction and Implementation, Bering Sea, City of Akutan, AK.

Summary: EPA raised environmental objections to the recommended project alternative due to direct and indirect impacts to wetlands and the likely exceedances of fully allocated TMDLs for dissolved oxygen and settleable solid residues. EPA also determined that there was insufficient information regarding the full range of reasonable alternatives and potential mitigation measures. EPA recommended that the final EIS demonstrates that alternatives analysis and mitigation measures are consistent with the Clean Water Act Section 404(b)(1) guidelines and that the proposed alternative will not exceed established TMDLs.

ERP No. D-FHW-F40410-IL Rating LO, Milan Beltway Extension (FAU 5822), Airport Road to Blackhawk Road/John Deere Expressway, Funding and Permits Issuance, Rock River, Rock Island County, IL.

Summary: EPA believes that the proposed project will result in minimum adverse impacts to the environment with appropriate mitigation and that we did not identify any outstanding environmental issues that need additional analysis.

ERP No. D-FHW-L40216-OR Rating EC2, Newberg-Dundee Transportation Improvement Project (TEA 21 Prog. #37), Proposal to Relieve Congestion on OR-9W through the Cities of Newberg and Dundee, Bypass Element Location (Tier 1), Yamhill County, OR.

Summary: EPA expressed environmental concern regarding air quality and air toxics, environmental justice issues, alternatives, habitat connectivity effectiveness and wetland impacts. EPA requested additional information, analysis, mitigation and outreach regarding these issues.

ERP No. D-NRC-E05099-FL Rating EC1, Generic EIS—License Renewal of Nuclear Plants for the St. Lucie Units 1 and 2, Supplement 11, NUREG-1437, Implementation, Hutchinson Island, St. Lucie County, FL.

Summary: EPA has environmental concerns with certain aspects of this license renewal and requests clarification of measures to avoid and mitigate for impacts to the Big Mud Creek ecosystem and to herbicide use in the transmission right-of-way. EPA also notes the ongoing need to consult during the facility's operating life with the appropriate agencies regarding threatened and endangered species.

Final EISs

ERP No. F-AFS-K65220-NV Cave Rock Management Direction, Implementation, Lake Tahoe Basin Management Unit, Douglas County, NV.

Summary: No formal comment letter was sent to the preparing agency.

ERP No. F-AFS-K65364-CA Red Star Restoration Project, Fire-Killed Trees Removal, Fuel Reduction, Road Reconstruction and Decommissioning and Associated Restoration, Tahoe Tahoe National Forest, Foresthill Ranger District, Placer County, CA.

Summary: No formal comment letter was sent to the preparing agency.

ERP No. F-DOE-E09808-KY Kentucky Pioneer Integrated Gasification Combined Cycle Demonstration Project, Construction and Operation of a 540 Megawatt-Electric Power Plant, Clean Coal Technology Program, Clark County, KY.

Summary: EPA still has environmental concerns with certain impacts, but the Final EIS adequately addresses mitigation of potential impacts associated with Cultural Resources, Aesthetic and Scenic Resources, Geology, Air, Traffic and Transportation. EPA requested that the Record of Decision address our remaining concerns.

ERP No. F-DOE-L08062-WA Grand Coulee-Bell 500-kV Transmission Line Project, Construction and Operation, U.S. Army COE Section 10 Permit Issuance, Douglas, Lincoln, Spokane and Grant Counties, WA.

Summary: EPA still has environmental concerns with BPA's rationale for not more fully considering the alternative action, which appears to have advantages for future transmission needs as well as for environmental protection. EPA requested that BPA provide an explanation for this decision in the Record of Decision.

ERP No. F-FHW-H40403-KS US 59 Highway Construction Improvements, Lawrence to Ottawa, Funding, NPDES Permit Issuance and Possible U.S. Army COE Permit Issuance, Douglas and Franklin Counties, KS.

Summary: EPA had no environmental concerns with the preferred alternative. EPA recommended that the Record of Decision provide more information regarding necessary mitigation.

ERP No. FS-AFS-J65312-WY Squirrel Meadows Grand Targhee Land Exchange Proposal, New Information and Current Environmental and Socioeconomic Conditions, Implementation, Targhee National Forest, Teton County, WY.

Summary: No formal comment letter was sent to the preparing agency.

ERP No. FS-NRC-A00150-00 Generic EIS—Decommissioning of Nuclear Facilities, Updated Information on Dealing With Decommissioning of Nuclear Power Reactors (NUREG-0586).

Summary: EPA continues to express environmental concern with NRC's not requiring consideration of environmental changes to the facility site during plant operation in the environmental assessment of the decommissioning process.

Dated: January 28, 2003.
Joseph C. Montgomery,
Director, NEPA Compliance Division, Office of Federal Activities.

[FR Doc. 03-2346 Filed 1-30-03; 8:45 am]

BILLING CODE 6560-50-P